ENVIRONMENTAL PROTECTION AGENCY

[EPA-HQ-SFUND-2012-0578; FRL-9984-03-OLEM]

Proposed Information Collection Request; Comment Request; Technical Assistance Needs Assessments (TANAs) at Superfund Remedial or Removal Sites

AGENCY: Environmental Protection Agency (EPA).

ACTION: Notice.

SUMMARY: The Environmental Protection Agency is planning to submit an information collection request (ICR), “Technical Assistance Needs Assessments” (EPA ICR No. 2470.02, OMB Control No. 2050-0211) to the Office of Management and Budget (OMB) for review and approval in accordance with the Paperwork Reduction Act. Before doing so, EPA is soliciting public comments on specific aspects of the proposed information collection as described below. This is a proposed extension of the ICR, which is currently approved through November 30, 2018. An Agency may not conduct or sponsor and a person is not required to respond to a collection of information unless it displays a currently valid OMB control number.

DATES: Comments must be submitted on or before November 19, 2018.

ADDRESSES: Submit your comments, referencing Docket ID No. EPA-HQ-SFUND-2012-0578 online using www.regulations.gov (our preferred method), by email to Shewack.robert@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Robert Shewack, Office of Site Remediation and Restoration, (OSRR01-5), Environmental Protection Agency, Region 1, 5 Post Office Square, Suite 100, Boston, MA 02109-3912; telephone number: (617) 918-1428; fax number: (617) 918-0428; email address: Shewack.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR covers the usage of TANAs with members of the impacted community in order to determine how the community is receiving technical information about a Superfund remedial or removal site; whether the community requires additional assistance in order to understand and respond to site-related technical information; and whether there are organizations in the community that are interested or involved in site-related issues and capable of acting as an appropriate conduit for technical assistance services to the affected community. Given the specific nature of the TANA, 8 to 10 persons will be interviewed per site, with an estimated total of 80 persons being interviewed per year (8 sites). Responses to the collection of information are voluntary and the names of respondents will be protected by the Privacy Act. The TANA will help ensure the community's needs for technical information assistance are defined as early in the remedial/removal process as possible and enable meaningful community involvement in the Superfund decision-making process. Additionally, the TANA process produces a blueprint for designing a coordinated effort to meet the community's needs for additional technical assistance while minimizing the overlap of services provided.

Form numbers: None.

Respondents/affected entities: Respondents to this ICR are local/state government officials, potentially-responsible party (PRP) representatives, community organizations, businesses and individuals who may be impacted by a Superfund site or a removal action lasting 120 days or longer. These community members voluntarily participate in community involvement activities throughout the remedial phase of the Superfund process. SIC Codes are OSHA's Standard Industrial Classification System used to identify different groups. Local/state governments are categorized as Division J: Public Administration, Major Group 95: Administration of Environmental Quality, subgroup 9511: Air and Water Resource and Solid Waste Management. The other respondents, community members, do not have a SIC Code as they do not constitute an industry.

Respondent's obligation to respond: voluntary.

Estimated number of respondents: 80 (per year).

Frequency of response: Once during the remediation of the Site. Each TANA interview is expected to last approximately one hour in duration.

Total estimated burden: 80 hours (per year). Burden is defined at 5 CFR 1320.03(b).

Total estimated cost: $1,860 (per year), includes $0 annualized capital or operation & maintenance costs.

Changes in Estimates: A reduction in the total estimated respondent burden is expected when compared with the ICR currently approved by OMB.

Dated: September 12, 2018.
James E. Woolford,
Director, Office of Superfund Remediation and Technology Innovation.

[FR Doc. 2018-20388 Filed 9-18-18; 8:45 am]

BILLING CODE 6560-50-P